NATIONAL SCIENCE FOUNDATION

Advisory Committee for Education and Human Resources; Notice of Meeting

In accordance with the Federal Advisory Committee Act (Pub. L. 92-463, as amended), the National Science Foundation announces the following meeting:

Name: Advisory Committee for Education and Human Resources (#1119).

Date/Time: April 30, 2014; 8:30 a.m.-6:00 p.m. May 1, 2014; 8:30 a.m.-2:30 p.m.

Place: NSF Headquarters, Room 1235, 4201 Wilson Boulevard, Arlington, VA 22230.

Operated assisted teleconference is available for this meeting. Call 888-324-9561 with password 1189785 and you will be connected to the audio portion of the meeting.

To attend the meeting in person, all visitors must contact the Directorate for Education and Human Resources (ehr_ac@nsf.gov) at least 24 hours prior to the teleconference to arrange for a visitor's badge. All visitors must report to the NSF visitor desk located in the lobby at the 9th and N. Stuart Streets entrance on the day of the teleconference to receive a visitor's badge.

Meeting materials and minutes will also be available on the EHR Advisory Committee Web site at http://www.nsf.gov/ehr/advisory.jsp.

Type of Meeting: Open, Teleconference.

Contact Person: Teresa Caravelli, National Science Foundation, 4201 Wilson Boulevard, Arlington, VA 22230; (703) 292-8600, tcaravel@nsf.gov.

Purpose of Meeting: To provide advice with respect to the Foundation's science, technology, engineering, and mathematics (STEM) education and human resources programming.

Agenda

Wednesday, April 30, 2014 8:30 a.m.-6 p.m.

• Remarks by the Committee Chair and NSF Assistant Director for Education and Human Resources (EHR).

• Re-Imagining an EHR for the Future.

• Panel Discussion on Partnerships and Networks.

• Panel Discussion on Beyond the “Pipeline” Metaphor.

• New Business from NSF Advisory Committees and Directorates.

• Panel Discussion with Outgoing Committee Members.

• Synthesis of the Day.

Thursday, May 1, 2014 8:30 a.m.-2:30 p.m.

• Panel Discussion on NSF's Role in the National Dialogue on Standards, Instruction, and Indicators.

• Remarks by Director, NSF; Dr. France Cordova.

• Plenary Panel: STEM Workforce Development: labor market demand for STEM competencies, long-term occupational projections, and industrial productivity.

• Adjournment.

Dated: April 8, 2014.
Suzanne Plimpton,
Acting Committee Management Officer.

[FR Doc. 2014-08138 Filed 4-10-14; 8:45 am]

BILLING CODE 7555-01-P